NUCLEAR REGULATORY COMMISSION

[Docket Nos. STN 50-454 and STN 50-455]

Commonwealth Edison Company, Byron Station, Units 1 and 2; Notice of Withdrawal of Application for Amendments to Facility Operating Licenses

The U.S. Nuclear Regulatory Commission (the Commission) has granted the request of Commonwealth Edison Company (ComEd, the licensee) to withdraw its October 16, 1997, application for proposed amendments to Facility Operating Licenses Nos. NPF-37 and NPF-66 for the Byron Station, Unit Nos. 1 and 2, located in Ogle County, Illinois.

The proposed amendments would have revised the license of Byron, Unit 1, to incorporate an exemption from 10 CFR 70.24(a) consistent with the Unit 2 license. The Unit 2 license would have been amended accordingly.

The Commission had previously issued a Notice of Consideration of Issuance of Amendments published in the Federal Register on April 22, 1998 (63 FR 19966). However, by letter dated January 6, 2000, the licensee withdrew the proposed changes.

For further details with respect to this action, see the application for amendments dated October 16, 1997, and the licensee's letter dated January 6, 2000, which withdrew the application for license amendments. The above documents are available for public inspection at the Commission's Public Document Room, the Gelman Building, 2120 L Street, NW., Washington, DC, and accessible electronically through the ADAMS Public Electronic Reading Room link at the NRC Web site (http://www.nrc.gov).

Dated at Rockville, Maryland, this 15th day of February 2000.
For the Nuclear Regulatory Commission.
George F. Dick, Jr.,
Sr. Project Manager, Section 2, Project Directorate III, Division of Licensing Project Management, Office of Nuclear Reactor Regulation.

[FR Doc. 00-4081 Filed 2-18-00; 8:45 am]

BILLING CODE 7590-01-P